DEPARTMENT OF COMMERCE

National Oceanic and Atmospheric Administration

[I.D. 081400C]

North Pacific Fishery Management Council; Public Meetings

AGENCY: National Marine Fisheries Service (NMFS), National Oceanic and Atmospheric Administration (NOAA), Commerce.

ACTION: Notice of cancellation of public meetings.

SUMMARY: The North Pacific Fishery Management Council (Council) has cancelled public meetings of its Gulf of Alaska and Bering Sea/Aleutian Islands groundfish plan teams that were scheduled for September 13-15, 2000, at 9 a.m., respectively.

FOR FURTHER INFORMATION CONTACT: Jane DiCosimo, North Pacific Fishery Management Council; telephone 907-271-2809.

SUPPLEMENTARY INFORMATION: The initial notice published in the Federal Register on August 21, 2000 (65 FR 50678).

Dated: August 25, 2000.
Bruce C. Morehead,
Acting Director, Office of Sustainable Fisheries, National Marine Fisheries Service.

[FR Doc. 00-22201 Filed 8-29-00; 8:45 am]

Billing Code: 3510-22-S